NATIONAL SCIENCE FOUNDATION

Notice of Permit Applications Received Under the Antarctic Conservation Act of 1978 (Pub. L. 95-541)

AGENCY: National Science Foundation.

ACTION: Notice of Permit Applications Received under the Antarctic Conservation Act of 1978, Public Law 95-541.

SUMMARY: The National Science Foundation (NSF) is required to publish notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by July 9, 2008. This application may be inspected by interested parties at the Permit Office, address below.

ADDRESSES: Comments should be addressed to Permit Office, Room 755, Office of Polar Programs, National Science Foundation, 4201 Wilson Boulevard, Arlington, Virginia 22230.

FOR FURTHER INFORMATION CONTACT: Nadene G. Kennedy at the above address or (703) 292-7405.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas requiring special protection. The regulations establish such a permit system to designate Antarctic Specially Protected Areas.

The applications received are as follows:

Permit Application No. 2009-007

1. Applicant: Erica Wikander, Environmental Officer, Quark Expeditions, Inc., 47 Water Street, Norwalk, CT 06854.

Activity for Which Permit Is Requested

Enter Antarctic Specially Protected Area (ASPA). The applicant plans tourist visits by passengers onboard cruises of the Kapitan Khlebnikov to the historic huts in the Ross Sea area of Antarctica. The historic huts are located in the following Antarctic Specially Protected Areas (ASPA): Cape Evans (ASPA 154); Cape Royds (ASPA 156); Hut Point (ASPA 157); Cape Adare (ASPA 159); and Cape Hallett (ASPA 106). Expedition staff will ensure that the Management Plans for each of the sites are followed. There will be no more than 100 passengers at a time at the sites.

Location

Cape Evans (ASPA 154); Cape Royds (ASPA 156); Hut Point (ASPA 157); Cape Adare (ASPA 159); and Cape Hallett (ASPA 106).

Dates

March 15, 2008 to March 15, 2013.

Permit Application No. 2009-008

2. Applicant: Brian Stone, Deputy Division Director, Antarctic Infrastructure & Logistics, Office of Polar Programs, National Science Foundation, 4201 Wilson Boulevard, Arlington, VA 22230.

Activity for Which Permit Is Requested

Enter Antarctic Specially Protected Area (ASPA). The applicant plans educational visits by members of the U.S. Antarctic Program to the historic huts in the Ross Sea area of Antarctica. The historic huts are located in the following Antarctic Specially Protected Areas (ASPA): Cape Evans (ASPA 154); Cape Royds (ASPA 156); Hut Point (ASPA 157); and Cape Adare (ASPA 159). All visits will be conducted in accordance with the management plan for the specific sites.

Location

Cape Evans (ASPA 154); Cape Royds (ASPA 156); Hut Point (ASPA 157); and Cape Adare (ASPA 159).

Dates

October 1, 2008 to September 30, 2013.

Nadene G. Kennedy,
Permit Officer, Office of Polar Programs.

[FR Doc. E8-12760 Filed 6-6-08; 8:45 am]

BILLING CODE 7555-01-P